DEPARTMENT OF COMMERCE

National Oceanic and Atmospheric Administration

[RTID 0648-XD556]

Research Track Assessment for Black Sea Bass

AGENCY: National Marine Fisheries Service (NMFS), National Oceanic and Atmospheric Administration (NOAA), Commerce.

ACTION: Notice of public meeting.

SUMMARY: NMFS will convene the Research Track Assessment Peer Review Meeting for the purpose of reviewing Black Sea Bass. The Research Track Assessment Peer Review is a formal scientific peer-review process for evaluating and presenting stock assessment results to managers for fish stocks in the offshore U.S. waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from December 5, 2023-December 7, 2023. The meeting will conclude on December 7, 2023 at 4 p.m. eastern standard time. Please see SUPPLEMENTARY INFORMATION for the daily meeting agenda.

ADDRESSES:

The meeting will be held via WebEx: https://noaanmfs-meets.webex.com/noaanmfs-meets/j.php?MTID=m6913d2c21375690b5235caba3fbd2829.

Meeting number (access code): 2760 957 5065.

Meeting password: HMzTG9qhd73.

FOR FURTHER INFORMATION CONTACT: Michele Traver, 508-495-2195; michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Time | Topic | Presenter(s) | Notes
Tuesday, December 5, 2023
9 a.m.-9:15 a.m | Welcome/Logistics Introductions/Agenda/Conduct of Meeting | Michele Traver, Assessment Process Lead; Larry Alade, Acting PopDy Branch Chief; Olaf Jensen, Panel Chair
9:15 a.m.-9:45 a.m | Introduction/Executive Summary | Anna Mercer (WG chair)/Kiersten Curti (assessment lead) | Biology, movement, management overview, flag areas of major progress in the Research Track (new data sources, indices, M exploration, discard mortality exploration, new model, etc.).
9:45 a.m.-10:30 a.m | Term of Reference (TOR) #2 | Kiersten Curti | Commercial catch, Commercial Fisheries Research Foundation Research Fleet data.
10:30 a.m.-10:45 a.m | Break
10:45 a.m.-11:30 a.m | TOR #2 cont | Kiersten Curti, Sam Truesdell, Julia Beaty | Recreational catch Discard Mortality.
11:30 a.m.-12 p.m | Discussion/Summary | Review Panel
12 p.m.-12:15 p.m | Public Comment | Public
12:15 p.m.-1:15 p.m | Lunch
1:15 p.m.-2:45 p.m | TOR #3 | Kiersten Curti, Sam Truesdell, Alex Hansell | NEFSC Bottom Trawl Survey, NorthEast Area Monitoring and Assessment Program, State Surveys, Ventless Trap Survey, Vector Autoregressive Spatio Temporal indices.
2:45 p.m.-3 p.m | Break
3 p.m.-3:45 p.m | TOR #3 | Jeff Brust, Andy Jones | Recreational CPA and Commercial Catch Per Unit Effort.
3:45 p.m.-4 p.m | Discussion/Summary | Review Panel
4 p.m.-4:15 p.m | Public Comment | Public
4:15 p.m | Adjourn
Wednesday, December 6, 2023
9 a.m.-9:05 a.m | Welcome/Logistics Introductions/Agenda | Michele Traver, Assessment Process Lead; Olaf Jensen, Panel Chair
9:05 a.m.-10:30 a.m | TOR #1 | Scott Large, Kiersten Curti, Jason McNamee, Anna Mercer | Time varying growth and maturity, Spatiotemporal modeling, Ecosystem indicators, Trophic ecology, Natural Mortality, Stakeholder engagement.
10:30 a.m.-10:45 a.m | Break
10:45 a.m.-12:45 p.m | TOR #4 | Tim Miller, Kiersten Curti | Woods Hole Assessment Model.
12:45 p.m.-1:45 p.m | Lunch
1:45 p.m.-2:45 p.m | TOR #5 | Tim Miller, Kiersten Curti | Reference Points.
2:45 p.m.-3:30 p.m | TOR #6 | Tim Miller, Kiersten Curti | Projections.
3:30 p.m.-4 p.m | Discussion/Summary | Review Panel
4 p.m.-4:15 p.m | Public Comment | Public
4:15 p.m | Adjourn
Thursday, December 7, 2023
9 a.m.-9:05 a.m | Welcome/Logistics, Introductions/Agenda | Michele Traver, Assessment Process Lead; Olaf Jensen, Panel Chair |
9:05 a.m.-10:15 a.m | TOR #4 cont' | Gavin Fay, Jason McNamee | Stock Structure.
10:15 a.m.-10:30 a.m | Break
10:30 a.m.-10:45 a.m | TOR #8 | Kiersten Curti | Summarize Woods Hole Assessment Model recommended model; Alternative Assessment Approach.
10:45 a.m.-11:30 a.m | TOR #7 | Julia Beaty | Research Recommendations.
11:30 a.m.-12 p.m | Discussion/Summary | Panel
12 p.m.-12:15 p.m | Public Comment | Public
12:15 p.m.-1:15 p.m | Lunch
1:15 p.m.-4 p.m | Report writing | Panel
4 p.m | Adjourn

The meeting is open to the public; however, during the `Report Writing' session on Thursday, December 7th, the public should not engage in discussion with the Peer Review Panel.

Special Accommodations

This meeting is physically accessible to people with disabilities. Special requests should be directed to Michele Traver, via email (see FOR FURTHER INFORMATION CONTACT).

Dated: November 29, 2023.
Michael P. Ruccio,
Acting Director, Office of Sustainable Fisheries, National Marine Fisheries Service.

[FR Doc. 2023-26565 Filed 12-1-23; 8:45 am]

BILLING CODE 3510-22-P